DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than April 3, 2020.

Interested persons are invited to submit written comments regarding the subject matter of the investigations to the Administrator, Office of Trade Adjustment Assistance, at the address shown below, not later than April 3, 2020.

The petitions filed in this case are available for inspection at the Office of the Administrator, Office of Trade Adjustment Assistance, Employment and Training Administration, U.S. Department of Labor, Room N-5428, 200 Constitution Avenue NW, Washington, DC 20210.

Signed at Washington, DC, this 10th day of March 2020.
Hope D. Kinglock,
Certifying Officer, Office of Trade Adjustment Assistance.

Appendix

112 TAA Petitions Instituted Between 2/1/20 and 2/29/20
TA-W | Subject firm (petitioners) | Location | Date of institution | Date of petition
95636 | L.A. Darling (State/One-Stop) | Paragould, AR | 02/03/20 | 01/31/20
95637 | Carl Zeiss Vision (State/One-Stop) | Clackamas, OR | 02/04/20 | 02/03/20
95638 | FXI Inc. (State/One-Stop) | Portland, OR | 02/04/20 | 01/31/20
95639 | Focus: HOPE Companies (Company) | Detroit, MI | 02/04/20 | 02/03/20
95640 | J2Global (State/One-Stop) | Los Angeles, CA | 02/04/20 | 02/03/20
95641 | Leo D Bernstein & Sons, Inc. DBA Bernstein (Company) | Shaftsbury, VT | 02/04/20 | 02/03/20
95642 | Logistics Insight Corporation (State/One-Stop) | Detroit, MI | 02/04/20 | 02/03/20
95643 | MAHLE Engine Componants USA Inc. (State/One-Stop) | Russellville, AR | 02/04/20 | 02/03/20
95644 | Petrbras America (Workers) | Houston, TX | 02/04/20 | 02/03/20
95645 | State Street Bank (Workers) | Quincy, MA | 02/04/20 | 02/03/20
95646 | Domestic Corporation (State/One-Stop) | LaGrange, IN | 02/05/20 | 02/04/20
95647 | Dun & Bradstreet (State/One-Stop) | Waltham, MA | 02/05/20 | 01/31/20
95648 | Hexcel Corporation (Company) | Burlington, WA | 02/05/20 | 02/04/20
95649 | Kaiser Foundation Health Plan of Washington (State/One-Stop) | Renton, WA | 02/05/20 | 02/04/20
95650 | Langer Biomechanics, Inc. (State/One-Stop) | Ronkonkoma, NY | 02/05/20 | 02/04/20
95651 | Rosenberger North America (State/One-Stop) | Plano, TX | 02/05/20 | 02/04/20
95652 | Tripwire Inc. (State/One-Stop) | Portland, OR | 02/05/20 | 02/04/20
95653 | Blount International, Inc. (State/One-Stop) | Portland, OR | 02/06/20 | 02/05/20
95654 | Brazeway, LLC (State/One-Stop) | Hopkinsville, KY | 02/06/20 | 02/05/20
95655 | Dun & Bradstreet (Workers) | Austin, TX | 02/06/20 | 02/05/20
95656 | Exela Technologies (wages paid under Banctec) (State/One-Stop) | Irving, TX | 02/06/20 | 02/05/20
95657 | Frontier Communications (wage Citizens Telecom) (State/One-Stop) | Irving, TX | 02/06/20 | 02/05/20
95658 | LEDVANCE, LLC. (Company) | Wilmington, MA | 02/06/20 | 02/05/20
95659 | Lovelace Health System (State/One-Stop) | Albuquerque, NM | 02/06/20 | 02/05/20
95660 | Mount Vernon Mills, Alto, Georgia Plant (Company) | Alto, GA | 02/06/20 | 01/13/20
95661 | OEMMCCO, Inc. (Company) | Kenosha, WI | 02/06/20 | 02/05/20
95662 | Omega Pacific (Carabiners) (State/One-Stop) | Airway Heights, WA | 02/06/20 | 02/05/20
95663 | Resolute Forest Products (Company) | Augusta, GA | 02/06/20 | 02/05/20
95664 | Spang Engineered Solutions (Company) | Phoenix, AZ | 02/06/20 | 02/05/20
95665 | Accenture (State/One-Stop) | Indianapolis, IN | 02/07/20 | 02/06/20
95666 | Associated Spring, a Business of Barnes Group, Inc. (State/One-Stop) | Corry, PA | 02/07/20 | 02/06/20
95667 | Daimler Trucks North America—Gastonia Components and Logistics (Union) | Gastonia, NC | 02/07/20 | 02/06/20
95668 | Parallon Employer LLC (State/One-Stop) | Nashville, TN | 02/07/20 | 02/06/20
95669 | Coxcom Inc. (State/One-Stop) | West Warwick, RI | 02/10/20 | 02/07/20
95670 | LMI Aerospace, Inc. (State/One-Stop) | Cottonwood Falls, KS | 02/10/20 | 02/07/20
95671 | Motus One (State/One-Stop) | Troy, MI | 02/10/20 | 02/07/20
95672 | VersaLogic Corporation (State/One-Stop) | Tualatin, OR | 02/10/20 | 02/07/20
95673 | AMES Companies, Inc. (State/One-Stop) | Falls City, NE | 02/11/20 | 02/10/20
95674 | Baptist Health Corporate Office (Workers) | Louisville, KY | 02/11/20 | 01/27/20
95675 | INNIO Waukesha Gas Engines Inc. (Company) | Waukesha, WI | 02/11/20 | 02/10/20
95676 | Western Kentucky Coal Company (Workers) | Centertown, KY | 02/11/20 | 01/29/20
95677 | AIG PC Global Services, Inc. (State/One-Stop) | Olathe, KS | 02/12/20 | 02/11/20
95678 | Alight Solutions (State/One-Stop) | Lincolnshire, IL | 02/12/20 | 02/10/20
95679 | C&G Partnership at GE Drives and Control (State/One-Stop) | Salem, VA | 02/12/20 | 02/11/20
95680 | Harte Hanks (State/One-Stop) | Austin, TX | 02/12/20 | 02/11/20
95681 | Honeywell-American Meter Corporation (State/One-Stop) | Nebraska City, NE | 02/12/20 | 02/11/20
95682 | JC Penny Customer Care Center (State/One-Stop) | Lenexa, KS | 02/12/20 | 02/11/20
95683 | Samsung Austin Semiconductor LLC (State/One-Stop) | Austin, TX | 02/12/20 | 02/11/20
95684 | TCS e-Serve International (TATA) (State/One-Stop) | Cedar Rapids, IA | 02/12/20 | 02/11/20
95685 | Armstrong Flooring Inc. (State/One-Stop) | South Gate, CA | 02/13/20 | 02/12/20
95686 | Atlas Copco (IAS) (State/One-Stop) | Auburn Hills, MI | 02/13/20 | 02/12/20
95687 | Axiom Engineering (State/One-Stop) | Wichita, KS | 02/13/20 | 02/13/20
95688 | Eaton Corporation (State/One-Stop) | Shenandoah, IA | 02/13/20 | 02/12/20
95689 | Harte Hanks (State/One-Stop) | Texarkana, TX | 02/13/20 | 02/12/20
95690 | WABTEC formerly GE Transportation (State/One-Stop) | Erie, PA | 02/13/20 | 02/12/20
95691 | APC by Schneider Electric (State/One-Stop) | O'Fallon, MO | 02/14/20 | 02/13/20
95692 | Omni GSS Inc. (Workers) | Philadelphia, PA | 02/14/20 | 02/13/20
95693 | UiPath, Inc. (State/One-Stop) | Brooklyn, NY | 02/14/20 | 02/14/20
95694 | Unique Chardan Inc. (State/One-Stop) | Bryan, OH | 02/14/20 | 02/13/20
95695 | Altex (State/One-Stop) | Westfield, IN | 02/18/20 | 02/18/20
95696 | Nike AIR Manufacturing Innovation (State/One-Stop) | Beaverton, OR | 02/18/20 | 02/14/20
95697 | Quest Software (State/One-Stop) | Aliso Viejo, CA | 02/18/20 | 02/14/20
95698 | Wittrock Healthcare (State/One-Stop) | Greensburg, IN | 02/18/20 | 02/14/20
95699 | Bank Of America (State/One-Stop) | East Providence, RI | 02/19/20 | 02/18/20
95700 | Concentrix CVG Corporation (State/One-Stop) | Rio Rancho, NM | 02/19/20 | 02/18/20
95701 | CSC—Computer Services Corporation (State/One-Stop) | Warwick, RI | 02/19/20 | 02/18/20
95702 | Galesburg Castings Inc. (Company) | Galesburg, IL | 02/19/20 | 11/26/19
95703 | HED Cycling Products (State/One-Stop) | Roseville, MN | 02/19/20 | 02/18/20
95704 | Standard Insurance Company (State/One-Stop) | Hillsboro, OR | 02/19/20 | 02/18/20
95705 | Tenneco Inc. (State/One-Stop) | Seward, NE | 02/19/20 | 02/18/20
95706 | The Anthem Company Inc. (State/One-Stop) | Indianapolis, IN | 02/20/20 | 02/20/20
95707 | Armstrong Flooring AHF (State/One-Stop) | Oneida, TN | 02/20/20 | 02/19/20
95708 | Erie Coke Corporation (State/One-Stop) | Erie, PA | 02/20/20 | 02/19/20
95709 | Qualfon DSG LLC (Workers) | Highland Park, MI | 02/20/20 | 02/19/20
95710 | United Healthcare Services (State/One-Stop) | Shelton, CT | 02/20/20 | 02/19/20
95711 | UTC Aerospace (State/One-Stop) | Chula Vista, CA | 02/20/20 | 02/19/20
95712 | Confluent Medical Technologies (State/One-Stop) | Campbell, CA | 02/21/20 | 02/20/20
95713 | AdaptHealth (State/One-Stop) | Moon Township, PA | 02/21/20 | 02/20/20
95714 | CorVel Corporation (Symbeo) (State/One-Stop) | Portland, OR | 02/21/20 | 02/20/20
95715 | Delphi Powertrain Technologies (State/One-Stop) | West Henrietta, NY | 02/21/20 | 02/20/20
95716 | Forge Graphics Works Inc. (State/One-Stop) | Portland, OR | 02/21/20 | 02/20/20
95717 | HCL America Inc. (State/One-Stop) | Providence, RI | 02/21/20 | 02/20/20
95718 | HCL America (State/One-Stop) | Sunnyvale, CA | 02/21/20 | 02/20/20
95719 | Meggitt Aircraft Braking Systems (State/One-Stop) | Akron, OH | 02/21/20 | 02/20/20
95720 | Seneca Foods Corporation (State/One-Stop) | Rochester, MN | 02/21/20 | 02/20/20
95721 | Fabtex Inc. (State/One-Stop) | Orange, CA | 02/24/20 | 02/21/20
95722 | Futuredontics (State/One-Stop) | Los Angeles, CA | 02/24/20 | 02/21/20
95723 | Hybrid Promotions, LLC (State/One-Stop) | Cypress, CA | 02/24/20 | 02/21/20
95724 | Joy of Life Surrogacy (State/One-Stop) | Ontario, CA | 02/24/20 | 02/21/20
95725 | Knape & Vogt Manufacturing Company (Workers) | Grand Rapids, MI | 02/24/20 | 02/19/20
95726 | Tenaris Corporation (Union) | Ambridge, PA | 02/24/20 | 02/12/20
95727 | Darex LLC (State/One-Stop) | Ashland, OR | 02/25/20 | 02/24/20
95728 | Dell Products LP (State/One-Stop) | Santa Clara, CA | 02/25/20 | 02/24/20
95729 | Metal Powder Products (State/One-Stop) | Saint Marys, PA | 02/25/20 | 02/24/20
95730 | Par Pharmaceuticals (State/One-Stop) | Irvine, CA | 02/25/20 | 02/24/20
95731 | Paradigm Precision (Company) | Tempe, AZ | 02/25/20 | 02/24/20
95732 | State Street Corporation (State/One-Stop) | Quincy, MA | 02/25/20 | 02/25/20
95733 | Carestream Health Inc. (State/One-Stop) | Rochester, NY | 02/26/20 | 02/25/20
95734 | Concept Systems Manufacturing (State/One-Stop) | San Jose, CA | 02/26/20 | 02/25/20
95735 | IBM Global Business Services (Workers) | Armonk, NY | 02/26/20 | 02/25/20
95736 | Mersen USA St. Marys—PA Corporation (Union) | Saint Marys, PA | 02/26/20 | 02/25/20
95737 | Mr. Cooper (Nation Star Mortgage) (State/One-Stop) | Beaverton, OR | 02/26/20 | 02/25/20
95738 | Precision Aluminum Inc. (State/One-Stop) | Wadsworth, OH | 02/26/20 | 02/25/20
95739 | Virco Manufacturing Corporation (State/One-Stop) | Conway, AR | 02/26/20 | 02/25/20
95740 | AALFS Manufacturing Company (State/One-Stop) | Mena, AR | 02/27/20 | 02/26/20
95741 | Detroit Diesel (State/One-Stop) | Emporia, KS | 02/27/20 | 02/26/20
95742 | DSV Road Transport Inc. (DSV Air & Sea Inc.) (State/One-Stop) | Portland, OR | 02/27/20 | 02/26/20
95743 | Flowmaster Inc. (Company) | West Sacramento, CA | 02/27/20 | 02/26/20
95744 | MHelpDesk (State/One-Stop) | Fairfax, VA | 02/27/20 | 02/26/20
95745 | L.L.Bean, Inc. (Workers) | Freeport, ME | 02/28/20 | 02/27/20
95746 | Mondelez International (Workers) | Wilkes Barre, PA | 02/28/20 | 02/27/20
95747 | Navex Global (Workers) | Rexburg, ID | 02/28/20 | 02/27/20

[FR Doc. 2020-06090 Filed 3-23-20; 8:45 am]

BILLING CODE P